ENVIRONMENTAL PROTECTION AGENCY

[FRL OP-OFA-004]

Environmental Impact Statements; Notice of Availability

Responsible Agency: Office of Federal Activities, General Information 202-564-5632 or https://www.epa.gov/nepa.

Weekly receipt of Environmental Impact Statements (EIS)

Filed February 7, 2022 10 a.m. EST Through February 14, 2022 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20220015, Draft, FERC, LA, MP66-69 Compression Relocation and Modification Amendment and the MP33 Compressor Station Modification Amendment Project, Comment Period Ends: 04/04/2022, Contact: Office of External Affairs 866-208-3372.

EIS No. 20220016, Draft, TVA, TN, Clinch River Nuclear Site Advanced Nuclear Reactor Technology Park, Comment Period Ends: 04/04/2022, Contact: J. Taylor Johnson 423-571-2732.

EIS No. 20220017, Second Revised Draft, USACE, FL, Lake Okeechobee Watershed Restoration Project Draft Revised Integrated Project Implementation Report and Environmental Impact Statement, Comment Period Ends: 04/04/2022, Contact: Melissa Nasuti 904-232-1368.

Dated: February 14, 2022.
Cindy S. Barger,
Director, NEPA Compliance Division, Office of Federal Activities.

[FR Doc. 2022-03581 Filed 2-17-22; 8:45 am]

BILLING CODE 6560-50-P